SECURITIES AND EXCHANGE COMMISSION

[File No. 500-1]

China-Biotics, Inc.; Order of Suspension of Trading

October 7, 2011.

It appears to the Securities and Exchange Commission that there is a lack of current and accurate information concerning the securities of China-Biotics, Inc. (“China-Biotics”) because it has been delinquent in its required periodic reports since February 2011. China-Biotics is traded on the OTC Link under the ticker symbol CHBT.PK.

The Commission is of the opinion that the public interest and the protection of investors require a suspension of trading in the securities of the above-listed company.

Therefore, it is ordered, pursuant to Section 12(k) of the Securities Exchange Act of 1934, that trading in the securities of the above-listed company is suspended for the period from 9:30 a.m. EDT, October 7, 2011 through 11:59 p.m. EDT, on October 20, 2011.

By the Commission.
Elizabeth M. Murphy,
Secretary.

[FR Doc. 2011-26454 Filed 10-7-11; 4:15 pm]

BILLING CODE 8011-01-P